DEPARTMENT OF THE INTERIOR

Bureau of Land Management

[LLIDB01000-L54200000-FR0000-LVDID0480000, DK-G08-0003; IDI-35794]

Notice of Application for Recordable Disclaimer of Interest in Lands, Gem County, ID

AGENCY: Bureau of Land Management, Interior.

ACTION: Notice.

SUMMARY: An application has been filed with the Bureau of Land Management (BLM) by Cynthia L. Yee-Wallace, Attorney-at-Law, on behalf of Rick Zamzow for a Recordable Disclaimer of Interest from the United States for islands in Gem County, Idaho. This notice is intended to inform the public of the pending application.

DATES: Comments on this application should be received by June 7, 2010.

ADDRESSES: Comments must be filed with Peter J. Ditton, Acting State Director, Bureau of Land Management, Idaho State Office, 1387 S. Vinnell Way, Boise, ID 83709.

FOR FURTHER INFORMATION CONTACT: Laura Summers, Realty Specialist, at the above address or by phone at (208) 373-3866.

SUPPLEMENTARY INFORMATION: Pursuant to Section 315 of the Federal Land Policy and Management Act of 1976 (43 U.S.C. 1745), Cynthia L. Yee-Wallace, Attorney at Law, has filed an application on behalf of Rick Zamzow for a Disclaimer of Interest for a portion of two islands in the Payette River described as follows:

A parcel of land comprising 80.77 acres, more or less, in lots 3 and 4 of section 10, T. 6 N., R. 2 W., Boise Meridian, Gem County, Idaho, as shown on Record of Survey Instrument No. 239702, filed October 29, 2004, in the Gem County Recorder's Office, by William Hopkins, Idaho PLS No. 5721. Corrected by an Affidavit of Correction, Instrument No. 239983, filed in the Gem County Recorder′s Office and recorded on November 15, 2004, more particularly described as follows:

Beginning at the corner of sections 2, 3, 10, and 11, T. 6 N., R. 2 W, thence; N. 89°55′47″ W., 2634.71 feet, thence; S. 21°07′20″ E., 400.00 feet, thence; S. 21°07′20″ E., 267.26 feet, thence; S. 21°07′20″ E., 427.59 feet, thence; S. 31°09′03″ W., 115.70 feet, thence; S. 42°37′28″ W., 84.83 feet, thence; S. 03°44′39″ E., 314.09 feet, thence; S. 04°55′12″ E., 242.00 feet, thence; S. 04°55′12″ E., 496.26 feet, thence;

S. 08°59′20″ E., 57.30 feet to AP36 and the True Point of Beginning, thence, along lines L39 and L36 to L18, as listed and corrected in the Line Table and Affidavit of Correction.N. 88°30′28″ W., 224.22 feet, thence; N. 81°27′25″ W., 476.10 feet, thence; N. 76°05′25″ W., 225.24 feet, thence; S. 87°45′54″ W., 212.53 feet, thence; S. 83°58′32″ W., 110.63 feet, thence; N. 75°33′21″ W., 113.85 feet, thence; N. 29°01′25″ W., 229.72 feet, thence; N. 00°27′40″ E., 271.75 feet, thence; S. 83°22′08″ E., 81.98 feet, thence; S. 11°35′30″ E., 165.86 feet, thence; N. 12°06′39″ E., 166.44 feet, thence; N. 34°47′01″ W., 265.19 feet, thence; N. 47°27′07″ W., 130.03 feet, thence; N. 59°59′46″ W., 162.59 feet, thence; N. 89°44′05″ W., 333.68 feet, thence; S. 80°49′15″ W., 201.32 feet, thence; S. 77°43′42″ W., 140.69 feet, thence; S. 62°20′41″ W., 156.56 feet, thence; >S. 46°36′56″ W., 145.46 feet, to AP17, thence; S. 00°13′13″ W., 1593.39 feet to the beginning of line L1 on the bank of the Payette River, thence, with meanders along the bank of the Payette River.

S. 72°27′35″ E., 190.22 feet, thence; N. 88°04′16″ E., 259.27 feet, thence; N. 64°26′43″ E., 360.85 feet, thence; N. 80°06′13″ E., 187.84 feet, thence; N. 72°51′41″ E., 95.33 feet, thence; N. 84°05′46″ E., 244.01 feet, thence; S. 80°03′02″ E., 107.51 feet, thence; S. 09°35′32″ W., 72.84 feet, thence; S. 47°30′04″ E., 60.94 feet, thence; S. 63°19′56″ E., 129.06 feet, thence; S. 79°19′28″ E., 185.42 feet, thence; S. 77°30′50″ E., 295.64 feet, thence; S. 72°09′52″ E., 106.81 feet, thence; S. 68°55′49″ E., 229.30 feet, thence; N. 84°20′17″ E., 291.77 feet, thence; N. 66°00′13″ E., 84.51 feet, thence; N. 57°26′47″ E., 83.28 feet to the end of L17 on the Payette River, thence; N. 09°01′08″ W., 950.95 feet to AP36 and the True Point of Beginning.

The above described islands in section ten are claimed by Mr. Zamzow on the basis that they grew up out of the bed of the river after statehood and therefore belong to the State of Idaho, if the Payette River is navigable, or belong to the upland owners, if it is non-navigable. Mr. Zamzow owns the property on the right, or north, bank of the Payette River and claims the portions of the two islands are included in the property he owns. The United States has no claim to or interest in the land described and issuance of a recordable disclaimer will remove a cloud of title to the land.

Comments, including names and street addresses of commentors, will be available for public review at the BLM Idaho State Office (see ADDRESSES above), during regular business hours, Monday through Friday, except Federal holidays. Before including your address, phone number, e-mail address, or other personal identifying information in your comment, you should be aware that your entire comment—including your personal identifying information—may be made publicly available at any time. While you can ask us in your comment to withhold your personal identifying information from public review, we cannot guarantee that we will be able to do so.

If no valid objection is received, a Disclaimer of Interest may be approved stating that the United States does not have a valid interest in these islands.

Jerry L. Taylor,
Chief, Branch of Lands, Minerals and Water Rights, Resource Services Division.

[FR Doc. 2010-4961 Filed 3-8-10; 8:45 am]

BILLING CODE 4310-GG-P